DEPARTMENT OF VETERANS AFFAIRS

[OMB Control No. 2900-0576]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 8, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.gov. Please refer to “OMB Control No. 2900-0576.”

Send comments and recommendations concerning any aspect of the information collection to VA's OMB Desk Officer, OMB Human Resources and Housing Branch, New Executive Office Building, Room 10235, Washington, DC 20503 (202) 395-7316. Please refer to “OMB Control No. 2900-0576” in any correspondence.

SUPPLEMENTARY INFORMATION: Title: Certificate of Affirmation of Enrollment Agreement—Correspondence Course (Under Chapters 20, 32, & 35, Title 38 U.S.C., Section 903 of PL 96-342, or Chapter 1606, Title 10, U.S.C.

OMB Control Number: 2900-0576.

Type of Review: Reinstatement, without change, of a previously approved collection for which approval has expired.

Abstract: VA is required to pay educational benefits for correspondence training under Chapters 20, 32, & 35, Title 38 U.S.C., Section 903 of PL 96-342, or Chapter 1606, Title 10, U.S.C. When a claimant enrolls in a correspondence training course, he or she must sign VA Form 22-1999c and submit the form to the correspondence school to affirm the enrollment agreement contract. The correspondence school's certifying official attaches an enrollment certification to VA Form 22-1999c and submits both forms to VA for processing. Without this information, VA could not determine if the claimant has been informed of the 10-day reflection period required by law and whether or not to pay education benefits for correspondence training.

An agency may not conduct or sponsor, and a person is not required to respond to a collection of information unless it displays a currently valid OMB control number. The Federal Register Notice with a 60-day comment period soliciting comments on this collection of information was published on April 22, 2002, at pages 19623-19624.

Affected Public: Individuals or households.

Estimated Annual Burden: 4,700 hours.

Estimated Average Burden Per Respondent: 3 minutes.

Frequency of Response: On occasion.

Estimated Number of Respondents: 235.

Dated: June 21, 2002.
By direction of the Secretary.
Genie McCully,
Acting Director, Information Management Service.

[FR Doc. 02-17126 Filed 7-8-02; 8:45 am]

BILLING CODE 8320-01-P